DEPARTMENT OF HEALTH AND HUMAN SERVICES

Health Resources and Services Administration

Agency Information Collection Activities: Submission for OMB Review: Comment Request

Periodically, the Health Resources and Services Administration (HRSA) publishes abstracts of information collection requests under review by the Office of Management and Budget (OMB), in compliance with the Paperwork Reduction Act of 1995 (44 U.S.C. chapter 35). To request a copy of the clearance requests submitted to OMB for review, call the HRSA Reports Clearance Office on (301) 443-1129.

The following request has been submitted to the Office of Management and Budget for review under the Paperwork Reduction Act of 1995:

Proposed Project: HRSA AIDS Drug Assistance Program Quarterly Report—(OMB No. 0915-0294): Extension

HRSA's AIDS Drug Assistance Program (ADAP) is funded through Part B of Title XXVI of the Public Health Service Act, as amended by the Ryan White HIV/AIDS Treatment Extension Act of 2009 (The Ryan White HIV/AIDS Program), which provides grants to states and territories. ADAP provides medications for the treatment of HIV disease. Program funds may also be used to purchase health insurance for eligible clients or for services that enhance access, adherence, and monitoring of drug treatments.

Each of the 50 states, the District of Columbia, Puerto Rico, and several territories receive ADAP grants. As part of the funding requirements, ADAP Grantees submit quarterly reports that include information on patients served, pharmaceuticals prescribed, pricing, sources of support to provide AIDS medication treatment, eligibility requirements, cost data, and coordination with Medicaid. Each quarterly report requests updates from programs on the number of patients served, type of pharmaceuticals prescribed, and prices paid to provide medication. The first quarterly report of each ADAP fiscal year (due in July of each year) also requests information that only changes annually (e.g., state funding, drug formulary, eligibility criteria for enrollment, and cost-saving strategies including coordination with Medicaid).

The quarterly report represents the best method for HRSA to determine how ADAP Grants are expended and to provide answers to requests from Congress and other organizations.

The estimated annual burden is as follows:

Form | Number of respondents | Responses per respondent | Total responses | Hours per response | Total burden hours
1st Quarterly Report | 57 | 1 | 57 | 3 | 171
2nd, 3rd, & 4th Quarterly Reports | 57 | 3 | 171 | 1.5 | 256.5
Total | 57 |  | 228 |  | 427.5

Written comments and recommendations concerning the proposed information collection should be sent within 30 days of this Federal Register Notice to the desk officer for HRSA, either by e-mail to OIRA_submission@omb.eop.gov or by fax to 202-395-6974. Please direct all correspondence to the “attention of the desk officer for HRSA.”

Dated: January 19, 2011.
Robert Hendricks,
Director, Division of Policy and Information Coordination.

[FR Doc. 2011-1457 Filed 1-24-11; 8:45 am]

BILLING CODE 4165-15-P